DEPARTMENT OF THE INTERIOR

Office of Surface Mining Reclamation and Enforcement

30 CFR Part 924

[MS-021-FOR]

Mississippi Abandoned Mine Land Reclamation Plan

AGENCY: Office of Surface Mining Reclamation and Enforcement, Interior.

ACTION: Proposed rule; public comment period and opportunity for public hearing.

SUMMARY: We, the Office of Surface Mining Reclamation and Enforcement (OSM), are announcing receipt of a proposed Mississippi abandoned mine land reclamation plan (Mississippi plan) under the Surface Mining Control and Reclamation Act of 1977 (SMCRA or the Act). The purpose of the Mississippi plan is to establish policies and procedures to be followed in conducting reclamation of abandoned coal mine lands in Mississippi. Mississippi will use Federal monies to carry out the reclamation activities. We are seeking public comments on the adequacy of the proposed Mississippi plan. This document gives the times and locations that the proposed plan is available for your inspection, the comment period during which you may submit written comments on the plan, and the procedures that will be followed for the public hearing, if one is requested.

DATES: We will accept written comments on this proposed plan until August 23, 2007. If requested, we will hold a public hearing on the plan on August 20, 2007. We will accept requests to speak at a hearing until 4 p.m., c.t. on August 8, 2007.

ADDRESSES: You may submit comments, identified by MS-021-FOR, by any of the following methods:

• Federal eRulemaking Portal: http://www.regulations.gov. OSM is listed as Surface Mining Reclamation and Enforcement Office. Follow the instructions for submitting comments.

• Mail/Hand Delivery: Sherry Wilson, Director, Birmingham Field Office, Office of Surface Mining Reclamation and Enforcement, 135 Gemini Circle, Suite 215, Homewood, Alabama 35209; Telephone: (205) 290-7282.

Instructions: For detailed instructions on submitting comments and additional information on the rulemaking process, see the “Public Comment Procedures” heading of the SUPPLEMENTARY INFORMATION section of this document.

For access to the record for this rulemaking to review copies of the Mississippi program, the proposed Mississippi plan, a listing of any scheduled public hearings, and all written comments received in response to this document, you may go to the address of our Birmingham Field Office listed above during normal business hours, Monday through Friday, excluding holidays. You may receive one free copy of the proposed Mississippi plan by contacting Sherry Wilson, Director, Birmingham Field Office, by E-mail or mail/in person at the addresses listed above or by telephone at (205) 290-7282. Copies of comments are also available at http://www.regulations.gov.

In addition, you may review a copy of the proposed Mississippi plan during regular business hours at the following location: Mississippi Department of Environmental Quality, Office of Geology, 2380 Highway 80 West, Jackson, Mississippi 39289-1307, Telephone: (601) 961-5500.

FOR FURTHER INFORMATION CONTACT: Sherry Wilson, Director, Birmingham Field Office. Telephone: (205) 290-7282. E-mail: swilson@osmre.gov.

SUPPLEMENTARY INFORMATION:

I. Background on the Abandoned Mine Land Reclamation Program

II. Description of the Proposed Mississippi Plan

III. Public Comment Procedures

IV. Procedural Determinations

I. Background on the Abandoned Mine Land Reclamation (AML) Program

The AML Program was established by Title IV of the Act (30 U.S.C. 1201 et seq.) in response to concerns over extensive environmental damage caused by past coal mining activities. The program is funded by a reclamation fee collected on each ton of coal that is produced. The money collected is used to finance the reclamation of abandoned coal mines and for other authorized activities. Section 405 of the Act allows States and Indian Tribes to assume exclusive responsibility for reclamation activity within the State or on Indian lands if they develop and submit to the Secretary of the Interior (Secretary) for approval, a program (often referred to as a plan) for the reclamation of abandoned coal mines. If the Secretary determines that a State has developed and submitted a program for the reclamation of abandoned mine lands and has the ability and necessary State legislation to implement the provisions of Title IV, the Secretary may approve the State program and grant to the State exclusive authority to implement the provisions of the approved program. The Mississippi plan can be approved if:

1. The public has been given adequate notice and opportunity to comment and the record does not reflect major unresolved controversies.

2. The views of other Federal agencies have been solicited and considered.

3. The State has the legal authority, policies, and administrative structure to carry out the plan.

4. The plan meets all the requirements of our AML program provisions.

5. The State has an approved regulatory program.

6. The plan is in compliance with all applicable State and Federal laws and regulations.

II. Description of the Proposed Mississippi Plan

By letter dated June 11, 2007, (Administrative Record Number MS-0417-01 and MS-0417-02), Mississippi submitted a proposed AML plan under SMCRA (30 U.S.C. 1201 et seq.). The purpose of this submission is to demonstrate the intent and capability of the State to assume responsibility for administering and conducting the provisions of SMCRA and our AML program (30 CFR Chapter VII, Subchapter R) as published in the Federal Register on October 25, 1978 (43 FR 49932-44952). The receipt of Mississippi's submission is the first step in the process which will result in the establishment of a comprehensive program for the reclamation of abandoned mine lands in Mississippi. By submitting a proposed plan, Mississippi has indicated that it wishes to be primarily responsible for this program. If the submission is approved, the State will have primary responsibility for the reclamation of abandoned mine lands in Mississippi. Below is a summary of the proposed Mississippi plan. The full text of the plan is available for your inspection at the locations listed above under ADDRESSES.

The Mississippi plan submission includes the following:

1. A designation of the State agency authorized to administer the plan.

2. A legal opinion from the State's Attorney General of the designated Agency's authority to administer the plan.

3. A description of the policies and procedures to be followed in conducting the plan including:

(a) Goals and objectives.

(b) Project ranking and selection procedures.

(c) Coordination with other reclamation programs.

(d) Land acquisition, management, and disposal.

(e) Reclamation on private land.

(f) Rights of entry.

(g) Public participation in the plan.

4. A description of the administrative and management structure to be used in the plan including:

(a) A description of the organization of the designated agency and its relationship to other organizations that will participate in the plan.

(b) A personnel staffing policy.

(c) Purchasing and procurement systems and policies.

(d) A description of the accounting system including specific procedures for operation of the reclamation fund.

5. A general description of the activities to be conducted under the reclamation plan including:

(a) Known or suspected eligible lands and water requiring reclamation, including a map.

(b) General description of the problems identified and how the plan proposes to address them.

(c) General description of how the lands will be reclaimed.

6. General description of the conditions in the different geographic areas where reclamation is planned, including:

(a) The economic base.

(b) Significant esthetic, historic, or cultural, and recreational values.

(c) Endangered and threatened plant, fish, and wildlife and their habitat.

III. Public Comment Procedures

We are requesting comments on whether the proposed plan satisfies the applicable State reclamation plan approval criteria of 30 CFR 884.14. If we approve the plan, Mississippi will have primary responsibility for the reclamation of abandoned mine lands in Mississippi.

Written Comments

Send your written or electronic comments to us at the addresses given above. Your written comments should be specific, pertain only to the issues proposed in this rulemaking, and include explanations in support of your recommendations. We will not consider or respond to your comments when developing the final rule if they are received after the close of the comment period (see DATES). We will make every attempt to log all comments into the record for this rulemaking, but comments delivered to an address other than the those listed above may not be logged in.

Public Availability of Comments

Before including your address, phone number, e-mail address, or other personal identifying information in your comment, you should be aware that your entire comment—including your personal identifying information—may be made publicly available at any time. While you can ask us in your comment to withhold your personal identifying information from public review, we cannot guarantee that we will be able to do so.

Public Hearing

If you wish to speak at the public hearing, contact the person listed under FOR FURTHER INFORMATION CONTACT by 4 p.m., c. t. on August 8, 2007. If you are disabled and need special accommodations to attend a public hearing, contact the person listed under FOR FURTHER INFORMATION CONTACT. We will arrange the location and time of the hearing with those persons requesting the hearing. If no one requests an opportunity to speak, we will not hold a hearing.

To assist the transcriber and ensure an accurate record, we request, if possible, that each person who speaks at the public hearing provide us with a written copy of his or her comments. The public hearing will continue on the specified date until everyone scheduled to speak has been given an opportunity to be heard. If you are in the audience and have not been scheduled to speak and wish to do so, you will be allowed to speak after those who have been scheduled. We will end the hearing after everyone scheduled to speak and others present in the audience who wish to speak, have been heard.

Public Meeting

If only one person requests an opportunity to speak, we may hold a public meeting rather than a public hearing. If you wish to meet with us to discuss the amendment, please request a meeting by contacting the person listed under FOR FURTHER INFORMATION CONTACT. All such meetings are open to the public and, if possible, we will post notices of meetings at the locations listed under ADDRESSES. We will make a written summary of each meeting a part of the administrative record.

IV. Procedural Determinations

Executive Order 12630—Takings

This rule does not have takings implications. This determination is based on the analysis performed for the counterpart Federal regulation.

Executive Order 12866—Regulatory Planning and Review

This rule is exempted from review by the Office of Management and Budget (OMB) under Executive Order 12866.

Executive Order 12988—Civil Justice Reform

The Department of the Interior has conducted the reviews required by section 3 of Executive Order 12988 and has determined that this rule meets the applicable standards of subsections (a) and (b) of that section. However, these standards are not applicable to the actual language of State and Tribal abandoned mine land reclamation plans and plan amendments because each program is drafted and promulgated by a specific State or Tribe, not by OSM. Decisions on proposed abandoned mine land reclamation plans and plan amendments submitted by a State or Tribe are based solely on a determination of whether the submittal meets the requirements of Title IV of SMCRA (30 U.S.C. 1231-1243) and 30 CFR part 884 of the Federal regulations.

Executive Order 13132—Federalism

This rule does not have Federalism implications. SMCRA delineates the roles of the Federal and State governments with regard to the regulation of abandoned mine land reclamation programs. One of the purposes of SMCRA is to “establish a nationwide program to protect society and the environment from the adverse effects of surface coal mining operations.” Section 405(d) of SMCRA requires State abandoned mine land reclamation programs to be in compliance with the procedures, guidelines, and requirements established under SMCRA.

Executive Order 13175—Consultation and Coordination With Indian Tribal Governments

In accordance with Executive Order 13175, we have evaluated the potential effects of this rule on Federally-recognized Indian tribes and have determined that the rule does not have substantial direct effects on one or more Indian tribes, on the relationship between the Federal Government and Indian tribes, or on the distribution of power and responsibilities between the Federal Government and Indian tribes. This determination is based on the fact that the Mississippi plan does not provide for reclamation and restoration of land and water resources adversely affected by past coal mining on Indian lands. Therefore, the Mississippi plan has no effect on Federally-recognized Indian tribes.

Executive Order 13211—Regulations That Significantly Affect the Supply, Distribution, or Use of Energy

On May 18, 2001, the President issued Executive Order 13211 which requires agencies to prepare a Statement of Energy Effects for a rule that is (1) Considered significant under Executive Order 12866, and (2) likely to have a significant adverse effect on the supply, distribution, or use of energy. Because this rule is exempt from review under Executive Order 12866 and is not expected to have a significant adverse effect on the supply, distribution, or use of energy, a Statement of Energy Effects is not required.

National Environmental Policy Act

This rule does not require an environmental impact statement because agency decisions on proposed State and Tribal abandoned mine land reclamation plans and plan amendments are categorically excluded from compliance with the National Environmental Policy Act (42 U.S.C. 4332) by the Manual of the Department of the Interior (516 DM 6, appendix 8, paragraph 8.4B(29)).

Paperwork Reduction Act

This rule does not contain information collection requirements that require approval by OMB under the Paperwork Reduction Act (44 U.S.C. 3507 et seq.).

Regulatory Flexibility Act

The Department of the Interior certifies that this rule will not have a significant economic impact on a substantial number of small entities under the Regulatory Flexibility Act (5 U.S.C. 601 et seq.). The State submittal, which is the subject of this rule, is based upon counterpart Federal regulations for which an economic analysis was prepared and certification made that such regulations would not have a significant economic effect upon a substantial number of small entities. In making the determination as to whether this rule would have a significant economic impact, the Department relied upon the data and assumptions for the counterpart Federal regulations.

Small Business Regulatory Enforcement Fairness Act

This rule is not a major rule under 5 U.S.C. 804(2), the Small Business Regulatory Enforcement Fairness Act. This rule: (a) Does not have an annual effect on the economy of $100 million; (b) Will not cause a major increase in costs or prices for consumers, individual industries, Federal, State, or local government agencies, or geographic regions; and (c) Does not have significant adverse effects on competition, employment, investment, productivity, innovation, or the ability of U.S.-based enterprises to compete with foreign-based enterprises. This determination is based upon the fact that the State submittal, which is the subject of this rule, is based upon counterpart Federal regulations for which an analysis was prepared and a determination made that the Federal regulation was not considered a major rule.

Unfunded Mandates

This rule will not impose an unfunded mandate on State, local, or tribal governments or the private sector of $100 million or more in any given year. This determination is based upon the fact that the State submittal, which is the subject of this rule, is based upon counterpart Federal regulations for which an analysis was prepared and a determination made that the Federal regulation did not impose an unfunded mandate.

List of Subjects in 30 CFR Part 924

Intergovernmental relations, Surface mining, Underground mining.

Dated: July 13, 2007.
Brent Wahlquist,
Office of Surface Mining Reclamation and Enforcement.

[FR Doc. E7-14117 Filed 7-23-07; 8:45 am]

BILLING CODE 4310-05-P